DEPARTMENT OF COMMERCE

International Trade Administration

[A-570-831]

Fresh Garlic From the People's Republic of China: Initiation of New Shipper Reviews

AGENCY: Import Administration, International Trade Administration, Department of Commerce.

SUMMARY: The Department of Commerce (the Department) has determined that three timely requests for a new shipper review of the antidumping duty order on fresh garlic from the People's Republic of China (PRC), meet the statutory and regulatory requirements for initiation. The period of review (POR) of these new shipper reviews is November 1, 2008 through October 31, 2009.

EFFECTIVE DATE: January 5, 2010.

FOR FURTHER INFORMATION CONTACT: Scott Lindsay, AD/CVD Operations, Office 6, Import Administration, International Trade Administration, U.S. Department of Commerce, 14th Street and Constitution Avenue, NW, Washington, DC 20230; telephone: (202) 482-0780.

SUPPLEMENTARY INFORMATION:

Background

The notice announcing the antidumping duty order on fresh garlic from the PRC was published on November 16, 1994. See Antidumping Duty Order: Fresh Garlic from the People's Republic of China, 59 FR 59209 (November 16, 1994) (Order). On November 27, 2009, the Department received timely requests for a new shipper review from Jinxiang Chengda Imp & Exp Co., Ltd. (Chengda) and Jinxiang Yuanxin Imp & Exp Co., Ltd. (Yuanxin), and on December 1, 2009 the Department received a timely request from Zhengzhou Huachao Industrial Co., Ltd. (Huachao) in accordance with 19 CFR 351.214(c) and 351.214(d)(1). Chengda, Yuaxin and Huachao have each certified that it is both the producer and exporter of all of the fresh garlic they exported to the United States, which is the basis for its request for a new shipper review.

Pursuant to the requirements set forth in 19 CFR 351.214(b)(2)(i), in their requests for a new shipper review, Chengda, Yuaxin, and Huachao each certified that (1) it did not export fresh garlic to the United States during the period of investigation (POI); (2) since the initiation of the investigation, it has never been affiliated with any company that exported subject merchandise to the United States during the POI, including any exporter or producer not individually examined during the investigation; and (3) its export activities are not controlled by the central government of the PRC. In accordance with 19 CFR 351.214(b)(2)(iv), Chengda, Yuaxin, and Huachao submitted documentation establishing the following: (1) the date on which it first shipped fresh garlic for export to the United States and the date on which fresh garlic was first entered, or withdrawn from warehouse, for consumption; (2) the volume of its first shipment; and (3) the date of its first sale to an unaffiliated customer in the United States.

Initiation of New Shipper Review

Pursuant to section 751(a)(2)(B) of the Tariff Act of 1930, as amended (the Act) and 19 CFR 351.214(d)(1), we find that the requests submitted by Chengda, Yuaxin, and Huachao meet the threshold requirements for initiation of a new shipper review for shipments of fresh garlic from the PRC. See Memoranda to the File through Barbara E. Tillman, Director, AD/CVD Operations, Office 6, Fresh Garlic from the People's Republic of China: Initiation of Antidumping New Shipper Review-Yuanxin, Fresh Garlic from the People's Republic of China: Initiation of Antidumping New Shipper Review-Chengda, and Fresh Garlic from the People's Republic of China: Initiation of Antidumping New Shipper Review-Huachao, each dated concurrently with this notice. See 19 CFR 351.214(g)(1)(i)(A).

The Department will conduct these reviews according to the deadlines set forth in section 751(a)(2)(B)(iv) of the Act. It is the Department's usual practice, in cases involving non-market economies, to require that a company seeking to establish eligibility for an antidumping duty rate separate from the country-wide rate provide evidence of de jure and de facto absence of government control over the company's export activities. Accordingly, we will issue questionnaires to Chengda, Yuaxin, and Huachao, which will include a separate rate section. The review will proceed if the response provides sufficient indication that Chengda, Yuaxin, and Huachao are each not subject to either de jure or de facto government control with respect to the export of fresh garlic.

We will instruct U.S. Customs and Border Protection to allow, at the option of the importer, the posting, until the completion of the review, of a bond or security in lieu of a cash deposit for each entry of the subject merchandise from Chengda, Yuaxin, and Huachao in accordance with section 751(a)(2)(B)(iii) of the Act and 19 CFR 351.214(e). Because Chengda, Yuaxin, and Huachao each certified that it both produced and exported the subject merchandise, the sale of which is the basis for this new shipper review request, we will apply the bonding privilege to Chengda, Yuaxin, and Huachao only for subject merchandise which Chengda, Yuaxin, and Huachao each both produced and exported.

Interested parties requiring access to proprietary information in this new shipper review should submit applications for disclosure under administrative protective order in accordance with 19 CFR 351.305 and 351.306.

This initiation and notice are in accordance with section 751(a)(2)(B) of the Act and 19 CFR 351.214 and 351.221(c)(1)(i).

Dated: December 29, 2009.
Susan Kuhbach,
Senior Director, Office 1 for Antidumping and Countervailing Duty Operations.

[FR Doc. E9-31316 Filed 1-4-10; 8:45 am]

BILLING CODE 3510-DS-S